DEPARTMENT OF ENERGY

Secretary of Energy Advisory Board

AGENCY: Department of Energy.

ACTION: Notice of open teleconference meeting.

SUMMARY: This notice announces an open teleconference meeting of the Secretary of Energy Advisory Board. The Federal Advisory Committee Act (Pub. L. 92-463, 86 Stat. 770), requires that agencies publish these notices in the Federal Register to allow for public participation.

DATES: Friday, May 19, 2006, 1:30 p.m.-2:30 p.m., eastern daylight standard time.

ADDRESSES: Participants may call the Office of the Secretary of Energy Advisory Board at (202) 586-7092 to reserve a teleconference line and receive a call-in number, or to pre-register for public comment. Public participation is welcome. The number of teleconference lines is limited and will be available on a first come basis.

FOR FURTHER INFORMATION CONTACT: Mr. Michael Richard, Executive Director, Secretary of Energy Advisory Board (AB-1), U.S. Department of Energy, 1000 Independence Avenue, SW., Washington, DC 20585, (202) 586-8877 or (202) 586-6279 (fax).

Note: Copies of the draft final report of the Science and Mathematics Education Task Force may be obtained from the following Internet address http://www.seab.energy.gov/news.htm or by contacting the Office of the Secretary of Energy Advisory Board at (202) 586-7092.

SUPPLEMENTARY INFORMATION: Purpose of the board: The purpose of the Secretary of Energy Advisory Board is to provide the Secretary of Energy with essential independent advice and recommendations on issues of national importance. The Board and its subcommittees provide timely, balanced, and authoritative advice to the Secretary of Energy on the Department's management reforms, research, development, and technology activities, energy and national security responsibilities, environmental cleanup activities, and economic issues relating to energy. During the open teleconference meeting the Board will discuss the draft findings and recommendations of the Science and Mathematics Education (SME) Task Force. The Task Force is a subcommittee of the Secretary of Energy Advisory Board. It was formed to provide the Board and the Secretary of Energy with advice on how the DOE could most effectively utilize its scientific and technical resources, including its national laboratories, to inspire, educate, and encourage a new generation of career scientists and engineers to meet the challenges of the future and to enhance the scientific literacy of the nation. The Task Force was also asked to recommend short-term and long-term initiatives that the Department and its national laboratories should pursue to leverage their resources to address the need for skilled scientists, engineers and technicians, and to achieve the scientific and technical advances essential to our future and the security of the nation. The Task Force's recommendations were requested to complement the major efforts of the National Science Foundation, National Aeronautics and Space Administration, Department of Education, and other federal agencies.

On May 19th, the Board will conduct a teleconference to discuss the findings and recommendations contained in the draft final report of the Science and Mathematics Education Task Force.

Tentative Agenda

Friday, May 19, 2006

1:30 p.m.-1:40 p.m. Welcome & Opening Remarks—Mr. M. Peter McPherson, Chairman of the Secretary of Energy Advisory Board

1:40 p.m.-1:55 p.m. Overview of the Science and Mathematics Education Task Force's draft Findings and Recommendations—Dr. Louis Proenza, Task Force Chairman

1:55 p.m.-2:15 p.m. Public Comment Period

2:15 p.m.-2:30 p.m. Board Review & Comment and Action—Mr. M. Peter McPherson, Chairman of the Secretary of Energy Advisory Board

2:30 p.m. Adjourn

This agenda is tentative and subject to change.

Public Participation: In keeping with procedures, members of the public are welcome to observe the business of the Secretary of Energy Advisory Board and submit advance written comments or comment during the scheduled public comment period. The Chairman of the Board is empowered to conduct the meeting in a fashion that will, in the Chairman's judgment, facilitate the orderly conduct of business. During its open teleconference meeting, the Board welcomes public comment. Members of the public will be heard in the order in which they have registered for public comment at the beginning of the meeting. The Board will make every effort to hear the views of all interested parties. You may also submit written comments in advance of the meeting to Michael Richard, Executive Director, Secretary of Energy Advisory Board, AB-1, U.S. Department of Energy, 1000 Independence Avenue, SW., Washington, DC 20585. The Board should receive advance written comments no later than 1 p.m., May 16, 2006. This notice is being published less than 15 days before the date of the meeting due to the late resolution of scheduling issues.

Minutes: A copy of the minutes and a transcript of the open teleconference meeting will be made available for public review and copying approximately 30 days following the meeting at the Freedom of Information Public Reading Room, 1E-190 Forrestal Building, 1000 Independence Avenue, SW., Washington, DC, between 9 a.m.. and 4 p.m., Monday through Friday except Federal holidays. Further information on the Secretary of Energy Advisory Board and its subcommittees may be found at the Board's Web site, located at http://www.seab.energy.gov/.

Issued at Washington, DC, on May 4, 2006.
Carol Matthews,
Acting Advisory Committee Management Officer.

[FR Doc. E6-7132 Filed 5-9-06; 8:45 am]

BILLING CODE 6450-01-P